SMALL BUSINESS ADMINISTRATION

Privacy Act of 1974: System of Records

AGENCY: Small Business Administration.

ACTION: Notice of Revision of Privacy Act System of Records.

SUMMARY: SBA is amending its Privacy Act system of records notice titled, Business and Community Initiatives Resource Files, SBA-5 to clarify the categories of individuals and categories of records that are covered by that systems of records and also to change the title of the system of records. Publication of this notice complies with the Privacy Act and the Office of Management and Budget (OMB) Circular A-130 requirement for agencies to publish a notice in the Federal Register whenever the agency alters a system of records.

DATES: Comment Date: Submit comments by September 9, 2015.

Effective Date: The changes to this system of records will become effective September 24, 2015 unless comments are received that result in further revision.

ADDRESSES: Submit written comments to Linda Di Giandomenico, Acting Chief Freedom of Information/Privacy Acts Office, U. S. Small Business Administration, 409 3rd Street SW., Washington, DC 20416.

FOR FURTHER INFORMATION CONTACT: Linda Di Giandomenico, Acting Chief Freedom of Information/Privacy Acts Office, (202) 401-8203.

SUPPLEMENTARY INFORMATION: A system of records (SOR) is a group of any records under the control of a federal agency from which information is retrieved by the name of an individual or by a number, symbol or other identifier assigned to the individual. The Privacy Act, 5 U.S.C. 552a, requires each federal agency to publish in the Federal Register a system of records notice (SORN) identifying and describing each system of records the agency maintains, the purposes for which the agency uses the personally identifiable information (PII) in the system, the routine uses for which the agency discloses such information outside the agency, and how individuals can exercise their rights related to their PII information.

The PII information maintained in SBA's Business and Community Initiatives Resource Files system of records SBA-5, is collected in connection with various business and entrepreneurial education initiatives carried out by SBA to further its mission of helping small businesses or potential small business owners. SBA uses the information to, among other things, register eligible participants, report overall participation, and gain insight into participants' entrepreneurial goals, knowledge and experience. The information is also used to maintain a list of registrants, instructors, and other participants in the SBA entrepreneurial initiatives to facilitate the agency's Customer Relationship Management (CRM) capability to follow-up on additional initiatives, course feedback or other types of information. This system of records is separate from the SBA SBA-11, Entrepreneurial Development Management Information System, which covers information collected from those using SBA's business counseling and assistance services, provided by SBA's resource partners, including Small Business Development Centers, SCORE, and Women Business Centers.

SBA is changing the title of the system of records, SBA-5 to “Business and Entrepreneurial Initiatives for Small Businesses.” The agency believes this title more accurately conveys the scope of the source of the information maintained in the system. This revised name should also help affected persons identify which system if any governs their PII information. SBA is also amending the categories of individuals and categories of records covered by SBA-5 to more explicitly identify the persons and records maintained in the system of records. The current description of individuals and records covered by SBA-5 does not provide sufficient details to enable individuals whose information is maintained in the system of records to make a clear assessment about their Privacy Act protected information. The changes to the Categories of Individuals and Categories of Records provide a level of detail that is intended to close this gap.

SYSTEM NAME:

Business and Entrepreneurial Initiatives for Small Businesses

SYSTEM LOCATION:

Headquarters (HQ) and All SBA Field Offices

CATEGORIES OF INDIVIDUALS COVERED BY THE SYSTEM INCLUDE:

Individuals who participate in programs and activities (e.g., training, outreach, marketing, and matchmaking activities) that are conducted by SBA, its contractors, agents, or co-sponsors to promote and implement various business and entrepreneurial initiatives. These individuals include military service members, military dependents and veterans who register to attend or otherwise participate in these programs and activities such as but not limited to Boots to Business: Introduction to Entrepreneurship, Foundations of Entrepreneurship, and Reboot.

CATEGORIES OF RECORDS IN THE SYSTEM:

Biographical and other identifying information, including: name, physical and/or email address, telephone number (and other contact information), age range, race, ethnicity, military pay grade, veteran and discharge status, previous and current business ownership data (name of business, Web site, industry) and future self-employment aspirations.

AUTHORITY FOR MAINTENANCE OF THE SYSTEM:

5 U.S.C. 634(b)(6), 44 U.S.C. 3101.

ROUTINE USES OF RECORDS MAINTAINED IN THE SYSTEM INCLUDING CATEGORIES OF USERS AND THE PURPOSES OF SUCH USES:

These records and information in the records may be used, disclosed, or referred:

a. To coordinators of the various SBA business development and entrepreneurial events, such as training, outreach, marketing, and matchmaking activities.

b. To a Congressional office from an individual's record, when that office is inquiring on the individual's behalf; the Member's access rights are no greater than the individual's.

c. To SBA volunteers, contractors, interns, grantees, or co-sponsors who are assisting SBA in the performance of a service related to this system of records and who need access to the records in order to perform such service. Recipients of these records shall be required to comply with the requirements of the Privacy Act of 1974, as amended, 5 U.S.C. 552a.

d. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or the United States Government, where SBA determines that litigation is likely to affect SBA or any of its components.

e. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

f. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Paper and electronic files.

RETRIEVAL:

By the name of the individual covered by the system of record.

SAFEGUARDS:

Access and use is limited to persons with official need to know; computers are protected by password and user identification codes.

RETENTION AND DISPOSAL:

In accordance with Standard Operating Procedures 00 41 2, 65:01, 65:02, 65:03, 65:04, 65:05, 65:07 and 65:09.

SYSTEM MANAGER(S) AND ADDRESS:

Field Office Directors, Associate Administrators for program offices carrying out Entrepreneurial Programs and Initiatives, and Privacy Act Officer, 409 Third Street SW., Washington DC 20416.

NOTIFICATION PROCEDURE:

Individuals may make record inquiries in person or in writing to the Systems Manager or SBA Privacy Act Officer.

ACCESS PROCEDURES:

Systems Manager or Privacy Act Officer will determine procedures.

CONTESTING PROCEDURES:

Notify officials listed above and state reason(s) for contesting any information and provide proposed amendment(s) sought.

SOURCE CATEGORIES:

Individuals covered by the system of record; contractors, event coordinators, universities, professional or civic organizations.

Linda Di Giandomenico,
Acting Chief, Freedom of Information/Privacy Acts Office.

[FR Doc. 2015-19629 Filed 8-7-15; 8:45 am]

BILLING CODE 8025-01-P